DEPARTMENT OF STATE

22 CFR Part 51

RIN 1400-AC23

[Public Notice: 5894]

Rule Title: Passport Procedures—Amendment to Passport Surcharge

AGENCY: Department of State.

ACTION: Interim final rule.

SUMMARY: This rule amends the Department of State's regulation implementing the requirements of the Passport Services Enhancement Act of 2005, amending the Passport Act of June 4, 1920, to authorize the Secretary of State to establish and collect a surcharge to cover the costs of meeting the increased demand for passports as a result of actions taken to comply with section 7209(b) of the Intelligence Reform and Terrorism Prevention Act of 2004 (IRTPA). The Passport Services Enhancement Act authorizes the Department of State to assess a surcharge on applicable fees for the filing of each passport application to offset its additional costs. This rule will raise the surcharge based on a current estimate of the increased passport demand due to actions taken to comply with section 7209(b) of IRTPA. The surcharge will continue to be collected from within the passport application fee and will not increase the overall current cost of the passport to the applicant.

DATES: Effective date: This interim rule is effective on August 15, 2007.

Comment period: The Department of State will accept written comments from interested persons up to September 14, 2007.

ADDRESSES: Interested parties may submit comments at any time by any of the following methods:

• E-mail: PassportRules@state.gov. You must include the Regulatory Identification Number (RIN) in the subject line of your message.

• Mail: (paper, disk, or CD-ROM submissions): An original and three copies of comments should be sent to: Susan Bozinko, Office of Passport Services, Legal Affairs Division, Planning and Advisory Services, 2100 Pennsylvania Ave., NW., 3rd Floor, Washington, DC 20037. 202-663-2427.

• Fax: 202-663-2499. You must include the Regulatory Identification Number (RIN) in the subject line of your message.

FOR FURTHER INFORMATION CONTACT: For passport issuance policy: Susan Bozinko, Division Chief, Office of Passport Services, Legal Affairs Division, 2100 Pennsylvania Ave., NW., 3rd Floor, Washington, DC 20037. (202) 663-2427. E-mail: PassportRules@state.gov. For consular fee setting policy: Tracy Henderson, Director of the Budget, Bureau of Consular Affairs, U.S. Department of State, Suite H1004, 2401 E St., NW., Washington, DC 20520, or by e-mail: fees@state.gov.

SUPPLEMENTARY INFORMATION: The Passport Services Enhancement Act (Pub. L. 109-167, January 10, 2006, 119 Stat. 3578) authorizes the Secretary of State to establish, collect, and retain a surcharge to cover the costs of meeting the increased demand for passports as a result of actions taken to comply with section 7209(b) of the Intelligence Reform and Terrorism Prevention Act of 2004 (Pub. L. 108-458, 8 U.S.C. 1185).

In March 2006, the Department of State had commissioned an independent cost of service survey to examine the resource implications of the increased demand for passports under the Western Hemisphere Travel Initiative (WHTI), the Administration's proposal to address the requirements of the IRTPA, and to determine the appropriate amount of the surcharge. That survey estimated that uncompensated WHTI-related costs borne by the Department of State would reach $289 million during the period FY2006-FY2008. It also projected that a six-dollar surcharge retained by the Department of State would enable it to meet the costs of increased passport demand during that period. Accordingly on August 15, 2006, the Department of State published an interim rule providing for a surcharge of $6 per passport application. However, the demand and costs proved to be greater than originally estimated and thus the Department now projects that uncompensated demands during the period FY2008 to FY 2010 will reach $944 million. The Department has therefore determined that to meet its increased costs, it will need to retain $20 per passport application. Pursuant to the authority granted to the Secretary of State under the Passport Services Enhancement Act of 2005, this rule will allow the Department of State to establish, collect, and retain a twenty-dollar surcharge on applicable fees for the filing of each application for a passport, in order to address the resource implications of section 7209(b) of the IRTPA. That surcharge will be embedded in the passport application fee and will be deposited as an offsetting collection to the appropriate Department of State appropriation account. The non-surcharge portion of the passport application fee will be remitted to the general fund of the Treasury. The overall cost of the passport to the public will not increase by virtue of this action.

The Department of State considers the enactment of this rule as a matter of urgency to help provide the funds to meet the demand created by the legislation for universal international traveler nationality and identity documentation. The Department is in the process of increasing its overall production capacity, improving efficiency of production and adjudication processes, as well as enhancing anti-fraud measures. The Department is also currently developing a less expensive card format passport for use at land border crossings.

Regulatory Findings

Administrative Procedure Act

The Department is publishing this rule as an interim final rule, with a 30-day provision for post-promulgation public comments, based on the “good cause” exceptions set forth at 5 U.S.C. 553(b)(3)(B) and 553(d)(3). Publishing the rule in this way, with a post-promulgation opportunity for comment, will allow the Department of State to make the rule effective at the earliest opportunity. Allowing a full 30-day comment period followed by a publication of the final rule with a further 30 days before its effective date is not practicable or in the public interest. That process would delay retention by the Department of State of the increased surcharge, urgently needed in order to cover the increased costs attendant to implementing the provisions of the Intelligence Reform and Terrorism Prevention Act of 2004 on travel to the United States. That law, passed in the aftermath of the September 11, 2001 terrorist attacks, seeks to increase the national security of the United States by requiring all arrivals (both foreign nationals and U.S. citizen), even from countries where it was previously not required, to possess a suitably secure travel document. By expedited retention of the surcharge through an interim final rule, the Department of State will be able to fund the costs of increased passport demand and the production of a new, convenient card format passport to be introduced in fiscal year 2008.

Regulatory Flexibility Act/Executive Order 13272: Small Business

These changes to the regulations are hereby certified as not expected to have a significant impact on a substantial number of small entities under the criteria of the Regulatory Flexibility Act, 5 U.S.C. 601-612.

The Small Business Regulatory Enforcement Fairness Act of 1996

This rule is not a major rule as defined by 5 U.S.C. 804, for purposes of congressional review of agency rulemaking under the Small Business Regulatory Enforcement Fairness Act of 1996, Public Law 104-121. This rule will not result in an annual effect on the economy of $100 million or more; a major increase in costs or prices; or adverse effects on competition, employment, investment, productivity, innovation, or the ability of United States-based companies to compete with foreign based companies in domestic and import markets.

The Unfunded Mandates Reform Act of 1995

Section 202 of the Unfunded Mandates Reform Act of 1995 (UFMA), Public Law 104-4; 109 Stat. 48; 2 U.S.C. 1532, generally requires agencies to prepare a statement before proposing any rule that may result in an annual expenditure of $100 million or more by State, local, or tribal governments, or by the private sector. This rule does not result in any such expenditure nor will it significantly or uniquely affect small governments. Therefore, no actions were deemed necessary.

Executive Order 13132: Federalism

The Department of State finds that this regulation will not have substantial direct effects on the States, on the relationship between the national government and the States, or the distribution of power and responsibilities among the various levels of government. Nor does the rule have federalism implications warranting the application of Executive Orders No. 12372 and No. 13132.

Executive Order 12866: Regulatory Review

The Department of State has reviewed this interim final rule to ensure its consistency with the regulatory philosophy and principles set forth in Executive Order 12866. The Office of Management and Budget (OMB) has determined that this rule has important policy implications and is significant. This rule has been provided to OMB for review.

Executive Order 12988: Civil Justice Reform

The Department has reviewed the regulations in light of sections 3(a) and 3(b)(2) of Executive Order No. 12988 to eliminate ambiguity, minimize litigation, establish clear legal standards, and reduce burden.

The Paperwork Reduction Act of 1995

This rule does not impose information collection requirements under the provisions of the Paperwork Reduction Act, 44 U.S.C., Chapter 35.

List of Subjects in 22 CFR Part 51

Administrative practice and procedure, Drug traffic control, Passports and Visas.

Accordingly, for the reason set forth above, 22 CFR part 51 is amended as follows:

PART 51—PASSPORTS

1. The authority citation for part 51 is continues to read as follows:

Authority: 8 U.S.C. 1153 note, 1351, 1351 note; 10 U.S.C. 2602(c); 22 U.S.C. 214, 2504(a), 4201, 4206, 4215, 4219; 31 U.S.C. 9701; Pub. L. 105-277, 112 Stat. 2681 et seq.; Pub. L. 109-167, 119 Stat. 3578; Pub. L. 108-447, 118 Stat. 2809 et seq.; E.O. 10718, 22 FR 4632, 3 CFR, 1954-1958 Comp., p. 382; E.O. 11295, 31 FR 10603, 3 CFR, 1966-1970 Comp., p. 570.

2. Section 51.61(b) is amended to read as follows:

§ 51.61 Passport fees.

* * * * *

(b) A surcharge of twenty dollars on the filing of each application for a passport in order to cover the costs of meeting the increased demand for passports as a result of actions taken to comply with section 7209(b) of the Intelligence Reform and Terrorism Prevention Act of 2004 (8 U.S.C. 1165 note). The surcharge will be recovered by the Department of State from within the passport fee reflected in Schedule of Consular Fees.

* * * * *

Dated: August 10, 2007.
Henrietta Fore,
Under Secretary for Management, Department of State.

[FR Doc. E7-16177 Filed 8-14-07; 8:45 am]

BILLING CODE 4710-06-P